DEPARTMENT OF THE TREASURY

Submission for OMB Review; Comment Request

September 16, 2002.

The Department of Treasury has submitted the following public information collection requirement(s) to OMB for review and clearance under the Paperwor Reduction Act of 1995, Pub. L. 104-13. Copies of the submission(s) may be obtained by calling the Treasury Bureau Clearance Officer listed. Comments regarding this information collection should be addressed to the OMB reviewer listed and to the Treasury Department Clearance Officer, Department of the Treasury, Room 2110, 1425 New York Avenue, NW., Washington DC 20220.

DATES: Written comments should be received on or before November 1, 2002 to be assured of consideration.

Bureau of Alcohol, Tobacco and Firearms (BATF)

OMB Number: 1512-0398.

Form Number: ATF Forms 2093 (5200.3), 2098 (5200.16) 5230.4 and 5230.5.

Type of Review: Revision.

Title: Applciations for Tobacco Products and for Cigarette papers and Tubes.

Description: The forms are used by the tobacco industry members to obtain and amend permits necessary to engage in business as a manufacturer of tobacco products, importer of tobacco products, or proprietor of a export warehouse.

Respondents: Business or other for-profit, State, Local or Tribal Government.

Estimated Number of Respondents: 630.

Estimated Burden Hours Per Respondent:

| Hours
ATF F 2093 (5200.3) | 2
ATF F 2098 (5200.16) | 1
ATF F 5230.4 | 2
ATF F 5230.5 | 1

Frequency of Response: On occassion.

Estimated Total Reporting Burden: 1,130 hours.

Clearance Officer: Jacqueline White (202) 927-8930, Bureau of Alcohol, Tobacco and Firearms, Room 3200, 650 Massachusetts Avenue, NW., Washington, DC 20226.

OMB Reviewer: Joseph F. Lackey, Jr. (202) 395-7316, Office of Management and Budget, Room 10235, New Executive Office Building, Washington, DC 20503.

Lois K. Holland,
Departmental Reports, Management Officer.

[FR Doc. 02-24974 Filed 10-1-02; 8:45 am]

BILLING CODE 4810-31-M